DEPARTMENT OF JUSTICE

Bureau of Alcohol, Tobacco, Firearms and Explosives

[OMB Number 1140-0018]

Agency Information Collection Activities; Proposed eCollection eComments Requested; Revision of a Currently Approved Collection Application for Federal Firearms License—ATF Form 7 (5310.12)/7 CR (5310.16)

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0018 (Application for Federal Firearms License—ATF Form 7 (5310.12)/7 CR (5310.16), is being revised to include modifications to the verbiage used in Part B and the Instructions/Definitions section of the form.

DATES: Comments are encouraged and will be accepted for 60 days until June 1, 2020.

FOR FURTHER INFORMATION CONTACT: If you have additional comments, regarding the estimated public burden, associated response time, suggestions, or need a copy of the proposed information collection instrument with instructions, or additional information, please contact: Tracey Robertson, ATF Federal Firearms Licensing Center, either by mail at 244 Needy Road, Martinsburg, WV 25405, by email at Tracey.Robertson@atf.gov, or by telephone at 304-616-4647.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection (check justification or form 83): Revision of a currently approved collection.

2. The Title of the Form/Collection: Application for Federal Firearms License.

3. The agency form number, if any, and the applicable component of the Department sponsoring the collection: Form number (if applicable): ATF Form 7 (5310.12)/7 CR (5310.16). Component: Bureau of Alcohol, Tobacco, Firearms and Explosives, U.S. Department of Justice.

4. Affected public who will be asked or required to respond, as well as a brief abstract: Primary: Business or other for-profit. Other (if applicable): Individuals or households.

Abstract: The Application for Federal Firearms License—ATF Form 7 (5310.12)/7 CR (5310.16) is used by members of the public to apply for all types of federal firearm licenses (FFLs). The information requested on the form is used to determine the eligibility of the applicant to obtain a FFL, and verify the identity of a responsible person (RP).

5. An estimate of the total number of respondents and the amount of time estimated for an average respondent to respond: An estimated 13,000 respondents will utilize the form annually, and it will take each respondent approximately one (1) hour to complete their responses.

6. An estimate of the total public burden (in hours) associated with the collection: The estimated annual public burden associated with this collection is 13,000 hours, which is equal to 13,000 (# of respondents) * 1(# of responses per respondent) * 1 (60 minutes).

7. An Explanation of the Change in Estimates: The adjustments associated with this information collection include a decrease in the total respondents and responses by 2,000, since the last renewal in 2017. However, due to an increase in the postal rate, the total mailing costs for this IC has also risen by $100 since 2017.

If additional information is required contact: Melody Braswell, Department Clearance Officer, United States Department of Justice, Justice Management Division, Policy and Planning Staff, Two Constitution Square, 145 N Street NE, 3E.405A, Washington, DC 20530.

Dated: March 27, 2020.
Melody Braswell,
Department Clearance Officer for PRA, U.S. Department of Justice.

[FR Doc. 2020-06805 Filed 3-31-20; 8:45 am]

BILLING CODE 4410-XX-P